DEPARTMENT OF ENERGY

10 CFR Part 430

[EERE-2024-BT-TP-0009]

RIN 1904-AF68

Energy Conservation Program: Test Procedures for Residential and Commercial Clothes Washers and Consumer Clothes Dryers

AGENCY: Office of Energy Efficiency and Renewable Energy, Department of Energy.

ACTION: Final rule; delay of effective date.

SUMMARY: This document delays the effective date of a recently published final rule amending the test procedures for residential and commercial clothes washers and consumer clothes dryers. DOE also seeks comment on any further delay of the effective date, including the impacts of such delay, as well as comment on the legal, factual, or policy issues raised by the rule.

DATES: The effective date of the rule amending 10 CFR part 430 published at 90 FR 5519 on January 17, 2025, is delayed until March 21, 2025. Written comments and information will be accepted on or before March 7, 2025.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Mr. Uchechukwu “Emeka” Eze, U.S. Department of Energy, Office of the General Counsel, GC-33, 1000 Independence Avenue SW, Washington, DC 20585-0121. Telephone: (202) 586-4798. Email: uchechukwu.eze@hq.doe.gov.

SUPPLEMENTARY INFORMATION: On January 20, 2025, the Assistant to the President and Chief of Staff (“Chief of Staff”) issued a memorandum outlining the President's plan for managing the Federal regulatory process at the outset of the new Administration. In implementation of one of the measures directed by that memorandum, the United States Department of Energy (“DOE”) hereby temporarily postpones the effective date of its final rule amending the test procedures for residential and commercial clothes washers and consumer clothes dryers published in the Federal Register on January 17, 2025 (90 FR 5519). The January 17, 2025, rule amended the test procedures for residential and commercial clothes washers and consumer clothes dryers to: (1) update the test cloth specifications and allow for an alternate test cloth; and (2) reorganize the test procedures for improved readability. Consistent with the Chief of Staff's memorandum of January 20, 2025, DOE is temporarily postponing the effective date of the final rule to March 21, 2025. The temporary delay in effective date is necessary to give DOE officials the opportunity for further review and consideration of new regulations, consistent with the Chief of Staff's memorandum of January 20, 2025.

To the extent that 5 U.S.C. 553 applies to this action, it is exempt from notice and comment because it constitutes a rule of procedure under 5 U.S.C. 553(b)(A) and for which no notice or hearing is required by statute. The delay of the effective date to March 21, 2025, does not affect the compliance date for this rule, which remains July 16, 2025. DOE is, however, seeking comment on any further delay of the effective date, including the impacts of such delay, as well as comment on the legal, factual, or policy issues raised by the rule.

Signing Authority

This document of the Department of Energy was signed on January 30, 2025, by Jocelyn Richards, Acting General Counsel, Office of the General Counsel, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 31, 2025.
Treena V. Garrett,
Federal Register Liaison Officer, U.S. Department of Energy.

[FR Doc. 2025-02237 Filed 2-4-25; 8:45 am]

BILLING CODE 6450-01-P